DEPARTMENT OF HEALTH AND HUMAN SERVICES

Administration for Children and Families

[CFDA Number: 93.676]

Announcement of Intent To Issue Replacement Award To Provide Residential Services (Shelter)

AGENCY: Office of Refugee Resettlement (ORR), Administration for Children and Families (ACF), Department of Health and Human Services (HHS).

ACTION: Notice of issuance of a replacement award to Urban Strategies.

SUMMARY: ACF, ORR announces the issuance of a replacement award in the amount of up to $18,871,413 to Urban Strategies, San Benito, Texas. On September 17, 2021, Comprehensive Health Services, LLC (CHS) relinquished a federally funded discretionary grant. Per HHS policy, ORR identified the current recipient Urban Strategies to transfer the current permanent capacity to provide shelter for apprehensions of Unaccompanied Children (UC) at the Southwest Border. The continuation of permanent capacity is a prudent step to ensure that ORR is able to meet its responsibility, by law, to provide shelter and appropriate services for UC referred to its care by the Department of Homeland Security. The purpose of this award is to ensure the continuation of residential services for the capacity of 100 shelter beds for UC.

DATES: The proposed period of performance is December 1, 2021-September 30, 2022.

FOR FURTHER INFORMATION CONTACT: Stephen Antkowiak, Office of Refugee Resettlement, Division of Unaccompanied Children Operations, 330 Street SW, Washington, DC 20447. Phone: 202-260-6165. Email: stephen.antkowiak@acf.hhs.gov.

SUPPLEMENTARY INFORMATION: ORR announces the issuance of a replacement award in the amount of up to $18,871,413 to Urban Strategies, San Benito, Texas. This award will prevent the disruption in residential services currently available at the CHS San Benito location and prevent children unnecessarily pending placement from Border Patrol.

ORR has specific requirements for the provision of services. Award recipients must have the infrastructure, licensing, if applicable, experience, and appropriate level of trained staff to meet those requirements.

Statutory Authority: This program is authorized by—

(A) Section 462 of the Homeland Security Act of 2002, which in March 2003, transferred responsibility for the care and custody of UC from the Commissioner of the former Immigration and Naturalization Service to the Director of ORR within HHS.

(B) The Flores Settlement Agreement, Case No. CV85-4544-RJK (C.D. Cal. 1996), as well as the William Wilberforce Trafficking Victims Protection Reauthorization Act of 2008 (Pub. L. 110-457), which authorizes post release services under certain conditions to eligible children. All programs must comply with the Flores Settlement Agreement, Case No. CV85-4544-RJK (C.D. Cal. 1996); pertinent regulations; and ORR policies and procedures.

Elizabeth Leo,
Senior Grants Policy Specialist, Office of Grants Policy, Office of Administration.

[FR Doc. 2021-25971 Filed 11-29-21; 8:45 am]

BILLING CODE 4184-45-P